DEPARTMENT OF HOUSING AND URBAN DEVELOPMENT

[Docket No. FR-5030-FA-25]

Notice of Funding Awards; Public Housing Family Self-Sufficiency for Fiscal Year 2006

AGENCY: Office of Public and Indian Housing, HUD.

ACTION: Announcement of Funding Awards.

SUMMARY: In accordance with Section 102(a)(4)(C) of the Department of Housing and Urban Development Reform Act of 1989, this announcement notifies the public of funding decisions made by the Department for funding under the FY 2006 Notice of Funding Availability (NOFA) for the Public Housing (PH) Family Self-Sufficiency Program funding for Fiscal Year 2006. This announcement contains the consolidated names and addresses of those award recipients selected for funding based on demonstrated performance.

FOR FURTHER INFORMATION CONTACT: For questions concerning the FY 2006 PH Family Self-Sufficiency awards, contact the Office of Public and Indian Housing's Grant Management Center, Director, Iredia Hutchinson, Department of Housing and Urban Development, Washington, DC, telephone (202) 358-0221. For the hearing or speech impaired, these numbers may be accessed via TTY (text telephone) by calling the Federal Information Relay Service at 1 (800) 877-8339. (Other than the “800” TTY number, these telephone numbers are not toll-free.)

SUPPLEMENTARY INFORMATION: The authority for the $10,000,000 in four-year budget authority for ROSS PIH FSS program coordinators is found in the Transportation, Treasury, Housing and Urban Development, the Judiciary, the District of Columbia, and Independent Agencies Appropriations Act, FY2006 (Pub. L. 109-115). The allocation of housing assistance budget authority is pursuant to the provisions of 24 CFR part 791, subpart D, implementing section 213 (d) of the Housing and Community Development Act of 1974, as amended. Additionally, unobligated funds were added to the $10,000,000.

This program is intended to promote the development of local strategies to coordinate the use of assistance with public and private resources to enable participating families to achieve economic independence and self-sufficiency. A Public and Indian Housing FSS Program Coordinator assures that program participants are linked to the supportive services they need to achieve self-sufficiency.

The Fiscal Year 2006 awards announced in this Notice were selected for funding in a competition announced in Federal Register NOFA published on March 8, 2006 (71 FR. 3382). Applications were scored based on the selection criteria in that Notice and funding selections made based on demonstrated performance.

In accordance with Section 102(a)(4)(C) of the Department of Housing and Urban Development Reform Act of 1989 (103 Stat. 1987, 42 U.S.C. 3545), the Department is publishing the names, addresses, and amounts of the 173 awards made under the Public Housing Family Self-Sufficiency competition.

Dated: December 10, 2007.
Orlando J. Cabrera,
Assistant Secretary for Public and Indian Housing.

Appendix A.—Fiscal Year 2006 Funding Awards for the PH Family Self Sufficiency Program
Jefferson County Housing Authority | 3700 Industrial Parkway | Birmingham | AL | 35217 | $50,943
Mobile Housing Board | 151 South Claiborne Street | Mobile | AL | 36602 | 51,119
The City of Montgomery Housing Authority | 1020 Bell Street | Montgomery | AL | 36104 | 39,830
The Housing Authority of The City of Huntsville | 200 Washington Street | Huntsville | AL | 35804-0486 | 65,000
Tuscaloosa Housing Authority | P.O. Box 2281 | Tuscaloosa | AL | 35403-2281 | 37,560
Housing Authority of the City of West Memphis | 2820 Harrison Street | West Memphis | AR | 72301-6099 | 39,500
City of Phoenix Housing Department | 251 West Washington, 4th Floor | Phoenix | AZ | 85003 | 65,000
City of Tucson | P.O. Box 27210 310 North Commerce Park Loop | Tucson | AZ | 85726-7210 | 26,007
Housing Authority of the City of Yuma | 420 South Madison Avenue | Yuma | AZ | 85364 | 55,493
Housing Authority of the City of Madera | 205 North G Street | Madera | CA | 93637 | 48,307
Housing Authority of the City of San Buenaventura | 995 Riverside Street | Ventura | CA | 93001-1636 | 65,000
Housing Authority of the City of San Luis Obispo | 487 Leff Street | San Luis Obispo | CA | 93401 | 48,531
Housing Authority of the City of Santa Barbara | 808 Laguna Street | Santa Barbara | CA | 93101 | 65,000
Housing Authority of the County of Kern | 601-24th Street | Bakersfield | CA | 93301 | 59,135
Housing Authority of the County of Marin | 4020 Civic Center Drive | San Rafael | CA | 94903 | 65,000
Housing Authority of the County of San Bernardino | 715 East Brier Drive | San Bernardino | CA | 92408-2841 | 65,000
Housing Authority of the County of San Joaquin | P.O. Box 447 | Stockton | CA | 95201 | 160,518
Housing Authority of the County of Stanislaus | 1701 Robertson Road | Modesto | CA | 95358-0033 | 65,000
San Diego Housing Commission | 1650 Newton Avenue | San Diego | CA | 92113 | 130,000
Adams County Housing Authority | 7190 Colorado Boulevard | Commerce City | CO | 80022 | 65,000
Boulder Housing Partners aba Housing Authority Boulder City | 4800 Broadway | Boulder | CO | 80304 | 61,700
Fort Collins Housing Authority | 1715 West Mountain Avenue | Fort Collins | CO | 80521 | 62,636
Housing Authority of the City & County of Denver | 777 Grant Street | Denver | CO | 80203 | 216,120
Housing Authority of the City of New Haven | P.O. Box 1912 360 Orange Street | New Haven | CT | 06509-1912 | 55,516
Housing Authority of the City of Norwalk | P.O. Box 508 24½ Monroe Street | Norwalk | CT | 06856-0508 | 65,000
Meriden Housing Authority | 22 Church Street | Meriden | CT | 06451 | 52,015
The Housing Authority City of Stamford | 22 Clinton Avenue | Stamford | CT | 06904 | 65,000
Dover Housing Authority | 76 Stevenson Drive | Dover | DE | 19901 | 36,515
Fort Pierce Housing Authority | 707 North 7th Street | Fort Pierce | FL | 34950 | 44,000
Hialeah Housing Authority | 75 East 6th Street | Hialeah | FL | 33010 | 36,875
Housing Authority of Brevard County | 615 Kurek Court | Merritt Island | FL | 32953 | 51,582
Housing Authority of Lakeland | 430 Hartsell Avenue | Lakeland | FL | 33815 | 46,276
Housing Authority of the City of Fort Myers | 4224 Michigan Avenue | Fort Myers | FL | 33916 | 53,391
Housing Authority of the City of Tampa | 1514 Union Street | Tampa | FL | 33607 | 60,058
Jacksonville Housing Authority | 1300 Broad Street | Jacksonville | FL | 32202 | 42,385
Tallahassee Housing Authority | 2940 Grady Road | Tallahassee | FL | 32312-2198 | 28,253
The Housing Authority of the City of Bradenton, Florida | 1307 6th Street West | Bradenton | FL | 34205 | 45,450
The Housing Authority of The City of Daytona Beach | 211 North Ridgewood Avenue Suite 200 | Daytona Beach | FL | 32114 | 40,000
West Palm Beach Housing Authority | 1715 Division Avenue | West Palm Beach | FL | 33407 | 35,723
Housing Authority of the City of Albany, GA | P.O. Box 485 521 Pine Avenue | Albany | GA | 31702 | 27,398
Macon Housing Authority | 2015 Felton Avenue | Macon | GA | 31201-4928 | 57,990
Northwest Georgia Housing Authority | 800 North Fifth Avenue | Rome | GA | 30162 | 36,207
Housing and Community Development Corporation of Hawaii | 677 Queen Street, Suite 300 | Honolulu | HI | 96813 | 45,011
City of Des Moines, Municipal Housing Agency | 100 East Euclid, Suite 101 | Des Moines | IA | 50313-4534 | 29,382
Eastern Iowa Regional Housing Authority | 3999 Pennsylvania Avenue, Suite 200 | Dubuque | IA | 52002 | 61,083
Nampa Housing Authority | 211 19th Avenue North | Nampa | ID | 83687 | 39,007
Housing Authority of Champaign County | 205 West Park Avenue | Champaign | IL | 61820 | 33,487
Macoupin County Housing Authority | 760 Anderson Street | Carlinville | IL | 62626 | 40,170
Peoria Housing Authority | 100 South Richard Pryor Place | Peoria | IL | 61605 | 46,673
Quincy Housing Authority | 540 Harrison | Quincy | IL | 62301 | 45,000
Rockford Housing Authority | 223 South Winnebago Street | Rockford | IL | 61102 | 61,274
Housing Authority of Delaware County, Indiana | 2401 South Haddix Avenue | Muncie | IN | 47302-7547 | 48,315
Housing Authority of the City of Terre Haute | P.O. Box 3086 One Dreiser Square | Terre Haute | IN | 47803-0086 | 58,160
Indianapolis Housing Agency | 1919 North Meridian | Indianapolis | IN | 46202-1303 | 58,500
New Albany Housing Authority | P.O. Box 11 | New Albany | IN | 47151-0011 | 114,800
Lawrence-Douglas County Housing Authority | 1600 Haskell Avenue | Lawrence | KS | 66044 | 57,008
Manhattan Housing Authority | P.O. Box 1024 300 North 5th Street | Manhattan | KS | 66505-1024 | 58,580
Housing Authority of Bowling Green | 247 Double Springs Road | Bowling Green | KY | 42101 | 45,000
Louisville Metro Housing Authority | 420 South Eighth Street | Louisville | KY | 40203 | 62,862
Housing Authority of Jefferson Parish | 1718 Betty Street | Marrero | LA | 70072 | 42,000
Holyoke Housing Authority | 475 Maple Street, Suite One | Holyoke | MA | 01040 | 43,693
Lynn Housing Authority | 10 Church Street | Lynn | MA | 01902 | 47,156
Quincy Housing Authority | 80 Clay Street | Quincy | MA | 02170 | 60,000
Housing Authority of Baltimore City | 417 East Fayette Street | Baltimore | MD | 21202 | 64,890
Housing Authority of St. Mary's County | P.O. Box 653 41650 Tudor Hall Road | Leonardtown | MD | 20650 | 51,932
Housing Authority Washington County | P.O. Box 2944 44 North Potomac Street | Hagerstown | MD | 21740-2944 | 4,268
Housing Commission of Anne Arundel County | 7477 Baltimore-Annapolis Boulevard | Glen Burnie | MD | 21146 | 63,000
Housing Opportunities Commission | 10400 Detrick Avenue | Kensington | MD | 20895 | 125,406
Rockville Housing Enterprises | 621A South Lawn Lane | Rockville | MD | 20850 | 60,852
The Housing Authority of the City of Hagerstown | 35 West Baltimore Street | Hagerstown | MD | 21740 | 94,929
Lewiston Housing Authority | 1 College Street | Lewiston | ME | 04240 | 15,859
Portland Housing Authority | 14 Baxter Boulevard | Portland | ME | 04101 | 17,020
The Housing Authority of the City of Brewer | 15 Colonial Circle, Suite 1 | Brewer | ME | 04412-1475 | 46,941
Grand Rapids Housing Commission | 1420 Fuller Avenue Southeast | Grand Rapids | MI | 49507 | 64,236
Muskegon Housing Commission | 1080 Terrace | Muskegon | MI | 49442 | 42,460
Saginaw Housing Commission | P.O. Box 3225 1803 Norman Street | Saginaw | MI | 48605-3225 | 46,790
Housing and Redevelopment Authority of Virginia | Post Office Box 1148 Pine Mill Court | Virginia | MN | 55792 | 51,359
Washington County Housing and Redevelopment Authority | 321 Broadway Avenue | Saint Paul Park | MN | 55071 | 25,986
Housing Authority of Kansas City, Missouri | 301 East Armour Boulevard, Suite 200 | Kansas City | MO | 64111 | 46,865
St. Louis Housing Authority | 4100 Lindell Boulevard | St. Louis | MO | 63108 | 64,890
Natchez Housing Authority | 2 Auburn Avenue | Natchez | MS | 39120 | 44,460
The Housing Authority of the City of Biloxi | P.O. Box 447 330 Benachi Avenue | Biloxi | MS | 39533-0447 | 41,000
The Housing Authority of the City of Meridian | 2425 E Street | Meridian | MS | 39301 | 47,396
Burlington Housing Authority | P.O. Box 2380 133 North Ireland Street | Burlington | NC | 27216-2380 | 53,523
City of Concord Housing Department | P.O. Box 308 283 Harold Goodman Circle | Concord | NC | 28026-0308 | 43,152
Gastonia Housing Authority | P.O. Box 2398 340 West Long Avenue | Gastonia | NC | 28053-2398 | 48,120
Greensboro Housing Authority | 450 North Church Street | Greensboro | NC | 27401 | 58,320
Housing Authority of the City of Asheville, NC | 165 South French Board Avenue | Asheville | NC | 28801 | 55,000
Housing Authority of the City of Durham | 330 East Main Street | Durham | NC | 27701 | 65,000
Housing Authority of the City of Greenville | 1103 Broad Street | Greenville | NC | 27834 | 53,640
Housing Authority of the City of High Point | 500 East Russell Avenue | High Point | NC | 27261 | 95,837
Housing Authority of the City of Kinston, North Carolina | 608 North Queen Street | Kinston | NC | 28501 | 41,721
Housing Authority of the City of Winston-Salem | 500 West 4th Street, Suite 300 | Winston-Salem | NC | 27101 | 53,030
Lexington Housing Authority | P.O. Box 1085 1 Jamaica Drive | Lexington | NC | 27293 | 51,591
Statesville Housing Authority | 110 West Allison Street | Statesville | NC | 28677 | 92,110
Housing Authority of the City of Lincoln, Nebraska | 5700 R Street | Lincoln | NE | 68505 | 62,740
Housing Authority of the City of Omaha | 540 South 27th Street | Omaha | NE | 68105 | 39,749
Kearney Housing Agency | 2715 Avenue I OFC | Kearney | NE | 68847 | 46,349
Keene Housing Authority | 831 Court Street | Keene | NH | 03431 | 45,535
Atlantic City Housing Authority | P.O. Box 1258 227 North Vermont Avenue, 17th Floor | Atlantic City | NJ | 08401 | 51,591
Millville Housing Authority | P.O. Box 803 309 Buck Street | Millville | NJ | 08332 | 22,372
City of Albuquerque Housing Services | 1840 University Boulevard Southeast | Albuquerque | NM | 87106 | 65,000
Clovis Housing & Redevelopment Agency, Inc | P.O. Box 1240 2101 West Grand Avenue | Clovis | NM | 88101 | 40,000
Santa Fe Civic Housing Authority | 664 Alta Vista Street | Santa Fe | NM | 87505 | 51,164
Santa Fe County Housing Authority | 52 Camino de Jacobo | Santa Fe | NM | 87507-3546 | 50,277
Taos County Housing Authority | Box 4239 NDCBU 505 Ranchitos Road | Taos | NM | 87571 | 46,000
Truth or Consequences Housing Authority | 108 Cedar Avenue | Truth or Consequences | NM | 87901 | 9,571
Housing Authority of the City of Las Vegas | 340 North 11th Street | Las Vegas | NV | 89101 | 125,886
Housing Authority of the City of Reno | 1525 East 9th Street | Reno | NV | 89512-3012 | 25,820
Housing Authority of the County of Clark, Nevada | 5390 East Flamingo Road | Las Vegas | NV | 89122 | 49,000
Buffalo Municipal Housing Authority | 300 Perry Street | Buffalo | NY | 14204 | 63,048
Cohoes Housing Authority | 100 Manor Sites | Cohoes | NY | 12047 | 13,861
Geneva Housing Authority | P.O. Box 153 41 Lewis Street | Geneva | NY | 14456 | 59,479
Monticello Housing Authority | 76 Evergreen Drive | Monticello | NY | 12701 | 34,677
Municipal Housing Authority of the City of Schenectady | 375 Broadway | Schenectady | NY | 12305 | 50,822
New Rochelle Municipal Housing Authority | 50 Sickles Avenue | New Rochelle | NY | 10801 | 64,890
Akron Metropolitan Housing Authority | 100 West Cedar Street | Akron | OH | 44307 | 116,891
Butler Metropolitan Housing Authority | 4110 Hamilton-Middletown Road | Hamilton | OH | 45011 | 65,000
Chillicothe Metropolitan Housing Authority | 178 West Fourth Street | Chillicothe | OH | 45601 | 22,032
Lorain Metropolitan Housing Authority | 1600 Kansas Avenue | Lorain | OH | 44052 | 42,000
Trumbull Metropolitan Housing Authority | 4076 Youngstown Road Southeast, Suite 101 | Warren | OH | 44484 | 44,496
Youngstown Metropolitan Housing Authority | 131 West Boardman Street | Youngstown | OH | 44503 | 56,067
Zanesville Metropolitan Housing Authority | 407 Pershing Road | Zanesville | OH | 43701 | 48,532
Housing Authority of the City of Lawton, Oklahoma | 609 Southwest F Avenue | Lawton | OK | 73501 | 31,521
Housing Authority of the City of Muskogee | 220 North 40th Street | Muskogee | OK | 74401 | 40,000
Housing Authority of the City of Shawnee, OK | P.O. Box 3427 601 West 7th Street | Shawnee | OK | 74802-3427 | 91,908
Housing Authority of the City of Tulsa | 415 East Independence Street | Tulsa | OK | 74106 | 31,513
Housing and Community Services Agency of Lane County | 177 Day Island Road | Eugene | OR | 97401 | 65,000
Housing Authority & Urban Renewal Agency of Polk County | P.O. Box 467 | Dallas | OR | 97338 | 14,390
Housing Authority of Jackson County | 2251 Table Rock Road | Medford | OR | 97501 | 34,404
Housing Authority of Portland (Oregon) | 135 Southwest Ash Street | Portland | OR | 97204 | 193,189
Housing Authority of the City of Salem | 360 Church Street Southeast | Salem | OR | 97301 | 64,180
Umatilla Reservation Housing Authority | 51 Umatilla Loop | Pendleton | OR | 97801 | 65,000
Allegheny County Housing Authority | 625 Stanwix Street, 12th Floor | Pittsburgh | PA | 15222 | 64,302
Housing Authority of Northumberland County | 50 Mahoning Street | Milton | PA | 17847 | 49,160
Housing Authority of the City of York | P.O. Box 1963 31 South Broad Street | York | PA | 17403 | 41,436
Philadelphia Housing Authority | 12 South 23rd Street, 6th Floor | Philadelphia | PA | 19103 | 65,000
Westmoreland County Housing Authority | 154 South Greengate Road | Greensburg | PA | 15601-9308 | 38,746
Housing Authority of the City of Providence | 100 Broad Street | Providence | RI | 02903 | 65,000
North Charleston Housing Authority | 2170 Ashley Phosphate Road, Suite 700 | North Charleston | SC | 29406 | 48,000
The Housing Authority City of Charleston | 550 Meeting Street | Charleston | SC | 29403 | 47,157
The Housing Authority of the City of Greenville, SC | 511 Augusta Street | Greenville | SC | 29605 | 32,057
The Housing Authority of the City of Spartanburg | 201 Caulder Avenue | Spartanburg | SC | 29306 | 47,250
Crossville Housing Authority | P.O. Box 425 | Crossville | TN | 38557 | 51,500
Jackson Housing Authority | 125 Preston Street | Jackson | TN | 38301 | 86,208
Kingsport Housing & Redevelopment Authority | P.O. Box 44 | Kingsport | TN | 37662 | 53,821
Metropolitan Development & Housing Agency | 701 South 6th Street | Nashville | TN | 37206 | 122,236
City of San Marcos Housing Authority | 1201 Thorpe Lane | San Marcos | TX | 78666 | 37,380
Housing Authority of the City of Austin | P.O. Box 6159 | Austin | TX | 78762-6159 | 97,190
Housing Authority of the City of Beaumont | 1890 Laurel | Beaumont | TX | 77701 | 27,766
Housing Authority of the City of Fort Worth | 1201 East 13th Street | Fort Worth | TX | 76102 | 65,000
Housing Authority of the City of Waco | P.O. Box 978 4400 Cobbs Drive | Waco | TX | 76703-0978 | 48,281
Housing Authority of the County of Hidalgo | 1800 North Texas Boulevard | Weslaco | TX | 78596 | 37,080
The Housing Authority of the City of Dallas, Texas (DHA) | 3939 North Hampton Road | Dallas | TX | 75212 | 45,981
The Housing Authority of the City of San Antonio | 818 South Flores Street | San Antonio | TX | 78204 | 292,262
Housing Authority of Salt Lake City | 1776 South West Temple | Salt Lake City | UT | 84115 | 53,000
Housing Authority of the County of Salt Lake | 3595 South Main Street | Salt Lake City | UT | 84115 | 57,880
Chesapeake Redevelopment & Hsg. Authority | 1468 South Military Highway | Chesapeake | VA | 23320 | 46,978
Danville Redevelopment and Housing Authority | 651 Cardinal Place | Danville | VA | 24541 | 43,260
Fairfax County Redevelopment and Housing Authority | 3700 Pender Drive, Suite 300 | Fairfax | VA | 22030 | 64,890
Harrisonburg Redevelopment and Housing Authority | 286 Kelley Street | Harrisonburg | VA | 22802 | 17,660
Newport News Redevelopment and Housing Authority | P.O. Box 797 227 27th Street | Newport News | VA | 23607 | 46,000
Norfolk Redevelopment & Housing Authority | 201 Granby Street | Norfolk | VA | 23510 | 130,000
Portsmouth Redevelopment & Housing Authority | 801 Water Street 2nd Floor | Portsmouth | VA | 23704 | 49,170
Richmond Redevelopment Housing Authority | P.O. Box 26887 901 Chamberlayne Parkway | Richmond | VA | 23261-6887 | 65,000
Roanoke Redevelopment and Housing Authority | 2624 Salem Turnpike, Northwest | Roanoke | VA | 24017 | 101,731
Waynesboro Redevelopment and Housing Authority | P.O. Box 1138 1700 New Hope Road | Waynesboro | VA | 22980 | 39,404
Housing Authority of the City of Bremerton | 110 Russell Road | Bremerton | WA | 98312 | 43,252
Housing Authority of the City of Tacoma | 902 South L Street | Tacoma | WA | 98405 | 53,629
Seattle Housing Authority | P.O. Box 19028 120 6th Avenue North | Seattle | WA | 98109-1028 | 55,563
Charleston Housing Authority | 911 Michael Avenue | Charleston | WV | 25312 | 41,996
Parkersburg Housing Authority | 1901 Cameron Avenue | Parkersburg | WV | 26101 | 38,411
Wheeling Housing Authority | P.O. Box 2089 11 Community Street | Wheeling | WV | 26003 | 43,010
Housing Authority of the City of Cheyenne | 3304 Sheridan Street | Cheyenne | WY | 82009 | 32,398

[FR Doc. E7-25149 Filed 12-27-07; 8:45 am]

BILLING CODE 4210-67-P